DEPARTMENT OF HEALTH AND HUMAN SERVICES

National Institutes of Health

Center for Scientific Review; Cancellation of Meeting

Notice is hereby given of the cancellation of the Center for Scientific Review Special Emphasis Panel, October 23, 2014, 7:15 a.m. to October 23, 2014, 7:45 a.m., Admiral Fell Inn, 888 South Broadway, Baltimore, MD 21231 which was published in the Federal Register on October 16, 2014, 79 FR 62166.

The meeting is cancelled due to the reassignment of applications.

Dated: October 16, 2014.
Carolyn Baum,
Program Analyst, Office of Federal Advisory Committee Policy.

[FR Doc. 2014-25040 Filed 10-21-14; 8:45 am]

BILLING CODE 4140-01-P